DEPARTMENT OF COMMERCE

International Trade Administration

[A-821-801]

Solid Urea From the Russian Federation: Initiation of Antidumping Duty New Shipper Review

AGENCY: Enforcement and Compliance, International Trade Administration, Department of Commerce.

SUMMARY: The Department of Commerce (the Department) is initiating a new shipper review of the antidumping duty order on solid urea from the Russian Federation (Russia) with respect to Joint Stock Company PhosAgro-Cherepovets.

DATES: Effective Date: August 31, 2015.

FOR FURTHER INFORMATION CONTACT: Andre Gziryan or Minoo Hatten, AD/CVD Operations Office I, Enforcement and Compliance, International Trade Administration, U.S. Department of Commerce, 14th Street and Constitution Avenue NW., Washington, DC 20230; Telephone: (202) 482-2201 and (202) 482-1690, respectively.

SUPPLEMENTARY INFORMATION:

Background

On July 14, 1987, the Department issued an antidumping duty order on solid urea from the Soviet Union.¹ Following the break-up of the Soviet Union, the antidumping duty order was transferred to the individual members of the Commonwealth of Independent States.² Pursuant to section 751(a)(2)(B)(i) of the Tariff Act of 1930, as amended (the Act), we received a timely request for a new shipper review of the order from Joint Stock Company PhosAgro-Cherepovets (PhosAgro).³ PhosAgro certified that it is both the producer and exporter of the subject merchandise upon which the request was based.⁴

¹ See Antidumping Duty Order; Urea from the Union of Soviet Socialist Republics, 52 FR 26367 (July 14, 1987).

² See Solid Urea from the Union of Soviet Socialist Republics; Transfer of the AD Order on Solid Urea from the Union of Soviet Socialist Republics to the Commonwealth of Independent States and the Baltic States and Opportunity to Comment, 57 FR 28828 (June 29, 1992).

³ See PhosAgro's new shipper request dated July 31, 2015.

⁴ See PhosAgro's new shipper request at Exhibit 1.

Pursuant to section 751(a)(2)(B)(i)(I) of the Act and 19 CFR 351.214(b)(2)(i), PhosAgro certified that it did not export subject merchandise to the United States during the period of investigation (POI).⁵ In addition, pursuant to section 751(a)(2)(B)(i)(II) of the Act and 19 CFR 351.214(b)(2)(iii)(A), PhosAgro certified that, since the initiation of the investigation, it has never been affiliated with any exporter or producer who exported subject merchandise to the United States during the POI, including those respondents not individually examined during the POI.⁶

⁵ Id.

⁶ Id.

In addition to the certifications described above, pursuant to 19 CFR 351.214(b)(2), PhosAgro submitted documentation establishing the following: (1) The date on which it first shipped subject merchandise for export to the United States; (2) the volume of its first shipment; and (3) the date of its first sale to an unaffiliated customer in the United States.⁷

⁷ See PhosAgro's new shipper request at Exhibit 1 and Exhibit 2.

Period of Review

In accordance with 19 CFR 351.214(g)(1)(i)(A), the period of review (POR) for new shipper reviews initiated in the month immediately following the anniversary month will be the 12-month period immediately preceding the anniversary month. Therefore, under this order, the POR is July 1, 2014, through June 30, 2015.

Initiation of New Shipper Review

Pursuant to section 751(a)(2)(B) of the Act and 19 CFR 351.214(b)(1), the Department finds that the request from PhosAgro meets the threshold requirements for initiation of a new shipper review for a shipment of solid urea from Russia produced and exported by PhosAgro.⁸ The Department intends to issue the preliminary results of this new shipper review no later than 180 days from the date of initiation and final results of the review no later than 90 days after the date the preliminary results are issued.⁹

⁸ See the memorandum to the file entitled “Solid Urea from the Russian Federation: Initiation Checklist for Antidumping Duty New Shipper Review of Joint Stock Company PhosAgro-Cherepovets” dated concurrently with this notice.

⁹ See section 751(a)(2)(B)(iv) of the Act.

We will instruct U.S. Customs and Border Protection to allow, at the option of the importer, the posting, until the completion of the review, of a bond or security in lieu of a cash deposit for each entry of the subject merchandise from PhosAgro, in accordance with section 751(a)(2)(B)(iii) of the Act and 19 CFR 351.214(e). Because PhosAgro certified that it produced and exported subject merchandise, the sale of which is the basis for the request for a new shipper review, we will apply the bonding privilege to PhosAgro only for subject merchandise which was produced and exported by PhosAgro.

To assist in its analysis of the bona fides of PhosAgro's sales, upon initiation of this new shipper review, the Department will require PhosAgro to submit on an ongoing basis complete transaction information concerning any sales of subject merchandise to the United States that were made subsequent to the POR.

Interested parties requiring access to proprietary information in the new shipper review should submit applications for disclosure under administrative protective order in accordance with 19 CFR 351.305 and 351.306.

This initiation and notice are published in accordance with section 751(a)(2)(B) of the Act and 19 CFR 351.214 and 351.221(c)(1)(i).

Dated: August 25, 2015.
Gary Taverman,
Associate Deputy Assistant Secretary for Antidumping and Countervailing Duty Operations.

[FR Doc. 2015-21503 Filed 8-28-15; 8:45 am]

BILLING CODE 3510-DS-P